NUCLEAR REGULATORY COMMISSION

Sunshine Act Meeting

AGENCY HOLDING THE MEETING: Nuclear Regulatory Commission.

DATES: Weeks of January 22, 29, February 5, 12, 19, 26, 2001.

PLACE: Commissioners' Conference Room, 11555 Rockville Pike, Rockville, Maryland.

STATUS: Public and Closed.

MATTERS TO BE CONSIDERED:

Week of January 22, 2001

There are no meetings scheduled for the Week of January 22, 2001.

Week of January 29, 2001—Tentative

Tuesday, January 30, 2001

9:30 a.m.

Briefing on Status of Nuclear Waste Safety (Public Meeting) (Contact: Claudia Seelig, 301-415-7243)

This meeting will be webcast live at the Web address—

www.nrc.gov/live.html

Wednesday, January 31, 2001

9:25 a.m.

Affirmation Session (Public Meeting) (If needed)

9:30 a.m.

Briefing on Status of OCIO Programs, Performances, and Plans (Public Meeting) (Contact: Donnie Grimsley, 301-415-8702)

This meeting will be webcast live at the Web address—

www.nrc.gov/live.html

Thursday, February 1, 2001

9:30 a.m.

Briefing on Status of OCIO Programs, Performances, and Plans (Public Meeting) (Contact: Lars Solander, 301-415-6080)

This meeting will be webcast live at the Web address—

www.nrc.gov/live.html

Week of February 5, 2001—Tentative

Monday, February 5, 2001

1:55 p.m.

Affirmation Session (Public Meeting) (If needed)

Week of February 12, 2001—Tentative

Wednesday, February 14, 2001

10:25 a.m.

Affirmation Session (Public Meeting) (If needed)

Week of February 19, 2001—Tentative

Tuesday, February 20, 2001

10:25 a.m.

Affirmation Session (Public Meeting) (If needed)

10:30 a.m.

Briefing on Spent Fuel Pool Accident Risk at Decommissioning Plants and Rulemaking Initiatives (Public Meeting) (Contact: George Hubbard, 301-415-2870)

This meeting will be webcast live at the Web address—

www.nrc.gov/live.html

Week of February 26, 2001—Tentative

Monday, February 26, 2001

1:30 p.m.

Meeting with the National Association of Regulatory Utility Commissioners (NARUC) (Public Meeting) (Contact: Spiros Droggitis, 301-415-2367)

This meeting will be webcast live at the Web address—

www.nrc.gov/live.html

Tuesday, February 27, 2001

10:25 a.m.

Affirmation Session (Public Meeting) (If needed)

10:30 a.m.

Briefing on Threat Environment Assessment (Closed-Ex. 1)

* The schedule for Commission meetings is subject to change on short notice. To verify the status of meetings call (recording)—(301) 415-1292. Contact person for more information: David Louis Gamberoni (301) 415-1651.

ADDITIONAL INFORMATION: By a vote of 5-0 on January 16, the Commission determined pursuant to U.S.C. 552b(e) and § 9.107(a) of the Commission's rules that “Affirmation of Sequoyah Fuels Corporation (Gore, Oklahoma Site Decommissioning) Docket No. 40-8027-MLA-4” be held on January 17, and on less than one week's notice to the public.

By a vote of 5-0 on January 16 and 17, the Commission determined pursuant to U.S.C. 552b(e) and § 9.107(a) of the Commission's rules that “Affirmation of Northeast Nuclear Energy Company (Millstone Unit 3; Facility Operating License NPF-49) Petition for Review of Licensing Board's Order, Adopting Agreed License Condition, Denying Request for Evidentiary Hearing on Other Issues and Terminating Proceeding (LBP-00-26, Issued Oct. 26, 2000)” be held on January 17, and on less than one week's notice to the public.

By a vote of 5-0 on January 16, the Commission determined pursuant to U.S.C. 552b(e) and § 9.107(a) of the Commission's rules that “Discussion of Potential Enforcement Matter (closed-Ex. 4 & 10)” be held on January 17, and on less than one week's notice to the public.

The NRC Commission meeting Schedule can be found on the Internet at:

http://www.nrc.gov/SECY/smj/schedule.htm

This notice is distributed by mail to several hundred subscribers; if you no longer wish to receive it, or would like to be added to it, please contact the Office of the Secretary, Washington, D.C. 20555 (301-415-1969). In addition, distribution of this meeting notice over the Internet system is available. If you are interested in receiving this Commission meeting schedule electronically, please send an electronic message to kdw@nrc.gov.

Dated: January 18, 2001.
David Louis Gamberoni,
Technical Coordinator, Office of the Secretary.

[FR Doc. 01-2106 Filed 1-19-01; 10:37 am]

BILLING CODE 7590-01-M